ENVIRONMENTAL PROTECTION AGENCY

[Docket ID No. OECA-2005-0016 to 0051 FRL-7908-6]

Agency Information Collection Activities: Request for Comments on Thirty Six Proposed Information Collection Requests (ICRs)

AGENCY: Environmental Protection Agency (EPA).

ACTION: Notice.

SUMMARY: In compliance with the Paperwork Reduction Act (PRA) (44 U.S.C. 3501 et seq.), this document announces that EPA is planning to submit the following 36 existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before July 5, 2005.

ADDRESSES: Comments may be submitted electronically, by mail, or through hand delivery/courier service. Follow the detailed instructions as provided under SUPPLEMENTARY INFORMATION, section I. B.

FOR FURTHER INFORMATION CONTACT: The contact individuals for each ICR are listed under SUPPLEMENTARY INFORMATION, section II. C.

SUPPLEMENTARY INFORMATION:

I. General Information

A. Background

Pursuant to section 3506(c)(2)(A) of the PRA, EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's standards are displayed at 40 CFR part 9.

B. Public Dockets

EPA has established official public dockets for the ICRs listed under SUPPLEMENTARY INFORMATION, section II. B. The official public docket for each ICR consists of the documents specifically referenced in the ICR, any public comments received, and other information related to each ICR. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514. An electronic version of the public docket for each ICR is available through EPA Dockets (EDOCKET) at: http://www.epa.gov/edocket. Use EDOCKET to obtain a copy of the draft collection of information, to submit or to view public comments, to access the index listing of the contents of the public docket, and to access those documents in the public docket that are available electronically. When in the system, select “search,” then key in the docket ID number identified above.

Any comments related to the listed ICRs above should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

II. ICRs To Be Renewed

A. For All ICRs

The listed ICRs address Clean Air Act information collection requirements in standards (i.e., standards) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis, as required by the Clean Air Act.

The Agency computed the burden for each of the recordkeeping and reporting requirements applicable to the industry for the currently approved Information Collection Requests (ICRs) listed in this notice. Where applicable, the Agency identified specific tasks and made assumptions, while being consistent with the concept of the Paperwork Reduction Act.

B. List of ICRs Planned To Be Submitted

In compliance with the Paperwork Reduction Act (44 U.S.C. 3501 et seq.), this notice announces that EPA is planning to submit the following 36 continuing Information Collection:

(1) NESHAP for Steel Pickling, HCl Process Facilities and Hydrochloric Acid Regeneration Plants (40 CFR Part 63, Subpart CCC); Docket ID Number OECA-2005-0047; EPA ICR Number 1821.05; OMB Control Number 2060-0419; expiration date October 31, 2005.

(2) NESHAP for Portland Cement (40 CFR Part 63, Subpart LLL); Docket ID Number OECA-2005-0040; EPA ICR Number 1801.04; OMB Control Number 2060-0416; expiration date October 31, 2005.

(3) NESHAP for Inorganic Arsenic Emissions from Glass Manufacturing Plants (40 CFR Part 61, Subpart N); Docket ID Number OECA-2005-0034; EPA ICR Number 1081.08; OMB Control Number 2060-0043; expiration date October 31, 2005.

(4) NSPS for Sulfuric Acid Plants (40 CFR Part 60, Subpart H); Docket ID Number OECA-2005-0025; EPA ICR Number 1057.10; OMB Control Number 2060-0041; expiration date October 31, 2005.

(5) NSPS for Primary and Secondary Emissions from Basic Oxygen Furnaces (40 CFR Part 60, Subparts N and Na); Docket ID Number OECA-2005-0044; EPA ICR Number 1069.08; OMB Control Number 2060-0029; expiration date October 31, 2005.

(6) NESHAP for Primary Lead Smelters (40 CFR Part 63, Subpart TTT); Docket ID Number OECA-2005-0046; EPA ICR Number 1856.05; OMB Control Number 2060-0414; expiration date October 31, 2005.

(7) NSPS for Petroleum Refineries (40 CFR Part 60, Subpart J); Docket ID Number OECA-2005-0016; EPA ICR Number 1054.09; OMB Control Number 2060-0022; expiration date November 30, 2005.

(8) NESHAP for Source Categories Generic Maximum Achievable Control Technology Standards (40 CFR Part 63, Subpart YY); Docket ID Number OECA-2005-0030; EPA ICR Number 1871.04; OMB Control Number 2060-0420; expiration date December 31, 2005.

(9) NSPS for Municipal Solid Waste Landfills (40 CFR Part 60, Subpart WWW); Docket ID Number OECA-2005-0029; EPA ICR Number 1557.06; OMB Control Number 2060-0220; expiration date October 31, 2005.

(10) NSPS for Calciners and Dryers in Mineral Industries (40 CFR Part 60, Subpart UUU); Docket ID Number OECA-2005-0024; EPA ICR Number 0746.06; OMB Control Number 2060-0251; expiration date December 31, 2005.

(11) NSPS for Metal Coil Surface Coating (40 CFR Part 60, Subpart TT); Docket ID Number OECA-2005-0037; EPA ICR Number 0660.09; OMB Control Number 2060-0107; expiration date December 31, 2005.

(12) NSPS for Bulk Gasoline Terminals (40 CFR part 60, Subpart XX); Docket ID Number OECA-2005-0017; EPA ICR Number 0664.08; OMB Control Number 2060-0006; expiration date December 31, 2005.

(13) NSPS for Equipment Leaks of VOC in Petroleum Refineries (40 CFR Part 60, Subpart GGG); Docket ID Number OECA-2005-0018; EPA ICR Number 0983.08; OMB Control Number 2060-0067; expiration date December 31, 2005.

(14) NSPS for Glass Manufacturing Plants (40 CFR Part 60, Subpart CC); Docket ID Number OECA-2005-0027; EPA ICR Number 1131.08; OMB Control Number 2060-0054; expiration date December 31, 2005.

(15) NESHAP for Wet-Formed Fiberglass Mat Production (40 CFR Part 63, Subpart HHHH); Docket ID Number OECA-2005-0048; EPA ICR Number 1964.03; OMB Control Number 2060-0496; expiration date December 31, 2005.

(16) NESHAP for Asbestos (40 CFR Part 61, Subpart M); Docket ID Number OECA-2005-0019; EPA ICR Number 0111.11; OMB Control Number 2060-0101; expiration date March 31, 2006.

(17) NSPS for Beverage Can Surface Coating (40 CFR Part 60, Subpart WW); Docket ID Number OECA-2005-0038; EPA ICR Number 0663.09; OMB Control Number 2060-0001; expiration date April 30, 2006.

(18) NSPS for Grain Elevators (40 CFR Part 60, Subpart DD); Docket ID Number OECA-2005-0026; EPA ICR Number 1130.08; OMB Control Number 2060-0082; expiration date April 30, 2006.

(19) NSPS for Kraft Pulp Mills (40 CFR Part 60, Subpart BB); Docket ID Number OECA-2005-0039; EPA ICR Number 1055.08; OMB Control Number 2060-0021; expiration date April 30, 2006.

(20) NSPS for Lime Manufacturing (40 CFR Part 60, Subpart HH); Docket ID Number OECA-2005-0028; EPA ICR Number 1167.08; OMB Control Number 2060-0063; expiration date April 30, 2006.

(21) NSPS for Hot Mix Asphalt Facilities (40 CFR Part 60, Subpart I); Docket ID Number OECA-2005-0045; EPA ICR Number 1127.08; OMB Control Number 2060-0083; expiration date April 31, 2006.

(22) NESHAP for Municipal Solid Waste Landfills (40 CFR Part 63, Subpart AAAA); Docket ID Number OECA-2005-0031; EPA ICR Number 1938.03; OMB Control Number 2060-0505; expiration date April 30, 2006.

(23) NESHAP for the Wood Building Products Surface Coating Industry (40 CFR Part 63, Subpart WWWW); Docket ID Number OECA-2005-0043; EPA ICR Number 2034.03; OMB Control Number 2060-0510; expiration date May 31, 2006.

(24) NESHAP for Reinforced Plastics Composites Production (40 CFR Part 63, Subpart WWWW); Docket ID Number OECA-2005-0049; EPA ICR Number 1976.03; OMB Control Number 2060-0509; expiration date May 31, 2006.

(25) NESHAP for Publicly Owned Treatment Works (40 CFR Part 63, Subpart VVV); Docket ID Number OECA-2005-0035; EPA ICR Number 1891.04; OMB Control Number 2060-0428; expiration date May 31, 2006.

(26) NESHAP for Metal Furniture Surface Coating (40 CFR Part 63, Subpart RRRR); Docket ID Number OECA-2005-0041; EPA ICR Number 1952.03; OMB Control Number 2060-0518; expiration date May 31, 2006.

(27) NESHAP for Asphalt Processing and Asphalt Roofing Manufacturing (40 CFR Part 63, Subpart LLLLL); Docket ID Number OECA-2005-0051; EPA ICR Number 2029.03; OMB Control Number 2060-0520; expiration date May 31, 2006.

(28) NESHAP for Flexible Polyurethane Foam Fabrication 40 CFR Part 63, Subpart MMMMM); Docket ID Number OECA-2005-0033; EPA ICR Number 2027.03; OMB Control Number 2060-0516; expiration date May 31, 2006.

(29) NESHAP for Paper and Other Web Coating (40 CFR Part 63, Subpart JJJJ); Docket ID Number OECA-2005-0032; EPA ICR Number 1951.03; OMB Control Number 2060-0511; expiration date May 31, 2006.

(30) NESHAP for Coke Oven Pushing Quenching and Battery Stacks (40 CFR Part 63, Subpart CCCCC); Docket ID Number OECA-2005-0050; EPA ICR Number 1995.03; OMB Control Number 2060-0521; expiration date May 31, 2006.

(31) NESHAP for Printing, Coating and Dyeing of Fabrics and Other Textiles (40 CFR Part 63, Subpart OOOO); Docket ID Number OECA-2005-0023; EPA ICR Number 2071.03; OMB Control Number 2060-0522; expiration date May 31, 2006.

(32) NESHAP for Refractory Products Manufacturing (40 CFR Part 63, Subpart SSSSS); Docket ID Number OECA-2005-0022; EPA ICR Number 2040.03; OMB Control Number 2060-0515; expiration date May 31, 2006.

(33) NESHAP for Brick and Structural Clay Manufacturing (40 CFR Part 63, Subpart JJJJJ); Docket ID Number OECA-2005-0021; EPA ICR Number 2022.03; OMB Control Number 2060-0508; expiration date May 31, 2006.

(34) NESHAP for Benzene Waste Operations (40 CFR Part 61, Subpart FF); Docket ID Number OECA-2005-0020; EPA ICR Number 1541.08; OMB Control Number 2060-0183; expiration date May 31, 2006.

(35) NESHAP for the Surface Coating of Large Household and Commercial Appliances (40 CFR Part 63, Subpart NNNN); Docket ID Number OECA-2005-0042; EPA ICR Number 1954.03; OMB Control Number 2060-0457; expiration date May 31, 2006.

(36) State and Federal Emission Guidelines for Hospital/Medical/Infectious Waste Incinerators (40 CFR Part 60, Subpart Ce and 40 CFR Part 62, Subpart HHH); Docket ID Number OECA-2005-0036; EPA ICR Number 1899.03; OMB Control Number 2060-0422; expiration date May 31, 2006.

C. Contact Individuals for ICRs

(1) NESHAP for Steel Pickling, HCl Process Facilities and Hydrochloric Acid Regeneration Plants (40 CFR Part 63, Subpart CCC); María Malavé in the Office of Compliance at (202) 564-7027 or via e-mail to: malave.maria@epa.gov; EPA ICR Number 1821.05; OMB Control Number 2060-0419; expiration date October 31, 2005.

(2) NESHAP for Portland Cement (40 CFR Part 63, Subpart LLL); Leonard Lazarus of the Office of Compliance at (202) 564-6369 or via e-mail to: lazarus.leonard@epa.gov; EPA ICR Number 1801.04; OMB Control Number 2060-0416; expiration date October 31, 2005.

(3) NESHAP for Inorganic Arsenic Emissions from Glass Manufacturing Plants (40 CFR Part 61, Subpart N); Learia Williams of the Office of Compliance at (202) 564-4113 or via e-mail to: williams.learia@epa.gov; EPA ICR Number 1081.08; OMB Control Number 2060-0043; expiration date October 31, 2005.

(4) NSPS for Sulfuric Acid Plants (40 CFR Part 60, Subpart H); Learia Williams of the Office of Compliance at (202) 564-4113 or via e-mail to: williams.learia@epa.gov; EPA ICR Number 1057.10; OMB Control Number 2060-0041; expiration date October 31, 2005.

(5) NSPS for Primary and Secondary Emissions from Basic Oxygen Furnaces (40 CFR Part 60, Subparts N and Na); María Malavé in the Office of Compliance at (202) 564-7027 or via e-mail to: malave.maria@epa.gov; EPA ICR Number 1069.08; OMB Control Number 2060-0029; expiration date October 31, 2005.

(6) NESHAP for Primary Lead Smelters (40 CFR Part 63, Subpart TTT); María Malavé in the Office of Compliance at (202) 564-7027 or via e-mail to: malave.maria@epa.gov; EPA ICR Number 1856.05; OMB Control Number 2060-0414; expiration date October 31, 2005.

(7) NSPS for Petroleum Refineries (40 CFR Part 60, Subpart J); Dan Chadwick of the Office of Compliance at (202) 564-7054 or via e-mail to chadwick.dan@epa.gov; EPA ICR Number 1054.09; OMB Control Number 2060-0022; expiration date November 30, 2005.

(8) NESHAP for Source Categories Generic Maximum Achievable Control Technology Standards (40 CFR Part 63, Subpart YY); Learia Williams of the Office of Compliance at (202) 564-4113 or via e-mail to: williams.learia@epa.gov; EPA ICR Number 1871.04; OMB Control Number 2060-0420; expiration date December 31, 2005.

(9) NSPS for Municipal Solid Waste Landfills (40 CFR Part 60, Subpart WWW); Learia Williams of the Office of Compliance at (202) 564-4113 or via e-mail to: williams.learia@epa.gov; EPA ICR Number 1557.06; OMB Control Number 2060-0220; expiration date October 31, 2005.

(10) NSPS for Calciners and Dryers in Mineral Industries (40 CFR Part 60, Subpart UUU); Learia Williams of the Office of Compliance at (202) 564-4113 or via e-mail to: williams.learia@epa.gov; EPA ICR Number 0746.06; OMB Control Number 2060-0251; expiration date December 31, 2005.

(11) NSPS for Metal Coil Surface Coating (40 CFR Part 60, Subpart TT); Leonard Lazarus of the Office of Compliance at (202) 564-6369 or via e-mail to: lazarus.leonard@epa.gov; EPA ICR Number 0660.09; OMB Control Number 2060-0107; expiration date December 31, 2005.

(12) NSPS for Bulk Gasoline Terminals (40 CFR Part 60, Subpart XX); Dan Chadwick of the Office of Compliance at (202) 564-7054 or via e-mail to chadwick.dan@epa.gov; EPA ICR Number 0664.08; OMB Control Number 2060-0006; expiration date December 31, 2005.

(13) NSPS for Equipment Leaks of VOC in Petroleum Refineries (40 CFR Part 60, Subpart GGG); Dan Chadwick of the Office of Compliance at (202) 564-7054 or via e-mail to chadwick.dan@epa.gov; EPA ICR Number 0983.08; OMB Control Number 2060-0067; expiration date December 31, 2005.

(14) NSPS for Glass Manufacturing Plants (40 CFR Part 60, Subpart CC); Learia Williams of the Office of Compliance at (202) 564-4113 or via e-mail to: williams.learia@epa.gov; EPA ICR Number 1131.08; OMB Control Number 2060-0054; expiration date December 31, 2005.

(15) NESHAP for Wet-Formed Fiberglass Mat Production (40 CFR Part 63, Subpart HHHH); María Malavé in the Office of Compliance at (202) 564-7027 or via e-mail to: malave.maria@epa.gov; EPA ICR Number 1964.03; OMB Control Number 2060-0496; expiration date December 31, 2005.

(16) NESHAP for Asbestos (40 CFR Part 61, Subpart M); Dan Chadwick of the Office of Compliance at (202) 564-7054 or via e-mail to chadwick.dan@epa.gov; EPA ICR Number 0111.11; OMB Control Number 2060-0101; expiration date March 31, 2006.

(17) NSPS for Beverage Can Surface Coating (40 CFR Part 60, Subpart WW); Leonard Lazarus of the Office of Compliance at (202) 564-6369 or via e-mail to: lazarus.leonard@epa.gov; EPA ICR Number 0663.09; OMB Control Number 2060-0001; expiration date April 30, 2006.

(18) NSPS for Grain Elevators (40 CFR Part 60, Subpart DD); Learia Williams of the Office of Compliance at (202) 564-4113 or via e-mail to: williams.learia@epa.gov; EPA ICR Number 1130.08; OMB Control Number 2060-0082; expiration date April 30, 2006.

(19) NSPS for Kraft Pulp Mills (40 CFR Part 60, Subpart BB); Leonard Lazarus of the Office of Compliance at (202) 564-6369 or via e-mail to: lazarus.leonard@epa.gov; EPA ICR Number 1055.08; OMB Control Number 2060-0021; expiration date April 30, 2006.

(20) NSPS for Lime Manufacturing (40 CFR Part 60, Subpart HH); Learia Williams of the Office of Compliance at (202) 564-4113 or via e-mail to: williams.learia@epa.gov; EPA ICR Number 1167.08; OMB Control Number 2060-0063; expiration date April 30, 2006.

(21) NSPS for Hot Mix Asphalt Facilities (40 CFR Part 60, Subpart I); Maríe Malavé in the Office of Compliance at (202) 564-7027 or via e-mail to: malave.maria@epa.gov; EPA ICR Number 1127.08; OMB Control Number 2060-0083; expiration date April 31, 2006.

(22) NESHAP for Municipal Solid Waste Landfills (40 CFR Part 63, Subpart AAAA); Learia Williams of the Office of Compliance at (202) 564-4113 or via e-mail to: williams.learia@epa.gov; EPA ICR Number 1938.03; OMB Control Number 2060-0505; expiration date April 30, 2006.

(23) NESHAP for the Wood Building Products Surface Coating Industry (40 CFR Part 63, Subpart WWWW); Leonard Lazarus of the Office of Compliance at (202) 564-6369 or via e-mail to: lazarus.leonard@epa.gov; EPA ICR Number 2034.03; OMB Control Number 2060-0510; expiration date May 31, 2006.

(24) NESHAP for Reinforced Plastics Composites Production (40 CFR Part 63, Subpart WWWW); María Malavé in the Office of Compliance at (202) 564-7027 or via e-mail to: malave.maria@epa.gov; EPA ICR Number 1976.03; OMB Control Number 2060-0509; expiration date May 31, 2006.

(25) NESHAP for Publicly Owned Treatment Works (40 CFR Part 63, Subpart VVV); Gregory Fried of the Office of Compliance at (202) 564-7016 or via e-mail to: fried.gregory@epa.gov; EPA ICR Number 1891.04; OMB Control Number 2060-0428; expiration date May 31, 2006.

(26) NESHAP for Metal Furniture Surface Coating (40 CFR Part 63, Subpart RRRR); Leonard Lazarus of the Office of Compliance at (202) 564-6369 or via e-mail to: lazarus.leonard@epa.gov; EPA ICR Number 1952.03; OMB Control Number 2060-0518; expiration date May 31, 2006.

(27) NESHAP for Asphalt Processing and Asphalt Roofing Manufacturing (40 CFR Part 63, Subpart LLLLL); Maríe Malavé in the Office of Compliance at (202) 564-7027 or via e-mail to: malave.maria@epa.gov; EPA ICR Number 2029.03; OMB Control Number 2060-0520; expiration date May 31, 2006.

(28) NESHAP for Flexible Polyurethane Foam Fabrication 40 CFR Part 63, Subpart MMMMM); Learia Williams of the Office of Compliance at (202) 564-4113 or via e-mail to: williams.learia@epa.gov; EPA ICR Number 2027.03; OMB Control Number 2060-0516; expiration date May 31, 2006.

(29) NESHAP for Paper and Other Web Coating (40 CFR Part 63, Subpart JJJJ); Learia Williams of the Office of Compliance at (202) 564-4113 or via e-mail to: williams.learia@epa.gov; EPA ICR Number 1951.03; OMB Control Number 2060-0511; expiration date May 31, 2006.

(30) NESHAP for Coke Oven Pushing Quenching and Battery Stacks (40 CFR Part 63, Subpart CCCCC); Maríe Malavé in the Office of Compliance at (202) 564-7027 or via e-mail to: malave.maria@epa.gov; EPA ICR Number 1995.03; OMB Control Number 2060-0521; expiration date May 31, 2006.

(31) NESHAP for Printing, Coating and Dyeing of Fabrics and Other Textiles (40 CFR Part 63, Subpart OOOO); Learia Williams of the Office of Compliance at (202) 564-4113 or via e-mail to: williams.learia@epa.gov; EPA ICR Number 2071.03; OMB Control Number 2060-0522; expiration date May 31, 2006.

(32) NESHAP for Refractory Products Manufacturing (40 CFR Part 63, Subpart SSSSS); Learia Williams of the Office of Compliance at (202) 564-4113 or via e-mail to: williams.learia@epa.gov; EPA ICR Number 2040.03; OMB Control Number 2060-0515; expiration date May 31, 2006.

(33) NESHAP for Brick and Structural Clay Manufacturing (40 CFR Part 63, Subpart JJJJJ); Learia Williams of the Office of Compliance at (202) 564-4113 or via e-mail to: williams.learia@epa.gov; EPA ICR Number 2022.03; OMB Control Number 2060-0508; expiration date May 31, 2006.

(34) NESHAP for Benzene Waste Operations (40 CFR Part 61, Subpart FF); Dan Chadwick of the Office of Compliance at (202) 564-7054 or via e-mail to chadwick.dan@epa.gov; EPA ICR Number 1541.08; OMB Control Number 2060-0183; expiration date May 31, 2006.

(35) NESHAP for the Surface Coating of Large Household and Commercial Appliances (40 CFR Part 63, Subpart NNNN); Leonard Lazarus of the Office of Compliance at (202) 564-6369 or via e-mail to: lazarus.leonard@epa.gov; EPA ICR Number 1954.03; OMB Control Number 2060-0457; expiration date May 31, 2006.

(36) State and Federal Emission Guidelines for Hospital/Medical/Infectious Waste Incinerators (40 CFR Part 60, Subpart Ce and 40 CFR Part 62, Subpart HHH); Gregory Fried of the Office of Compliance at (202) 564-7016 or via e-mail to: fried.gregory@epa.gov; EPA ICR Number 1899.03; OMB Control Number 2060-0422; expiration date May 31, 2006.

D. Information for Individual ICRs

(1) NESHAP for Steel Pickling, HCl Process Facilities and Hydrochloric Acid Regeneration Plants (40 CFR Part 63, Subpart CCC); EPA ICR Number 1821.05; OMB Control Number 2060-0419; expiration date October 31, 2005.

Affected Entities: Entities potentially affected by this action are facilities that pickle steel using hydrochloric acid or regenerate hydrochloric acid.

Abstract: The National Emission Standards for Hazardous Air Pollutants (NESHAP) for Steel Pickling, published at 40 CFR part 63, subpart CCC, were proposed on September 18, 1997 (62 FR 49051), and promulgated on June 22, 1999 (64 FR 33202). This standard establishes limits for hydrochloric acid emissions from continuous and batch pickling lines and acid regeneration units and limits for chlorine emissions from acid regeneration units. Also, operational and equipment standards are established for stationary acid storage vessels.

The monitoring, recordkeeping, and reporting requirements outlined in the standard are the same as those required for other NESHAP standards. Plants must demonstrate compliance with the emission standards by monitoring their control devices and performing annual emissions testing. Consistent with the NESHAP General Provisions (40 CFR Part 63, Subpart A), respondents submit one-time notifications of applicability and a one-time report on the performance test results for the primary emission control device. Plants also must develop and implement a startup, shutdown, and malfunction Plan. Sources are required to submit semiannual reports including periods of exceedances or a statement of compliance certifying that no exceedances have occurred. The standard also requires the owner or operator to submit a written maintenance plan for each emission control device. Records shall be maintained for a period of five years. Records of the most recent two years of operation must be maintained onsite.

Burden Statement: In the previously approved ICR, the estimated number of respondents for this information collection was 71 with 231 responses per year. The annual industry reporting and recordkeeping burden for this collection of information was 25,104 hours. On average, each respondent reported 3.3 times per year and spent 109 hours preparing each response.

The total annualized cost for continuous emissions monitoring was $8,388, which was comprised of capital/startup costs of $830 for and operation and maintenance (O&M) costs of $7,558.

(2) NESHAP for Portland Cement (40 CFR Part 63, Subpart LLL); EPA ICR Number 1801.04; OMB Control Number 2060-0416; expiration date October 31, 2005.

Affected Entities: Entities potentially affected by this action are owners or operators of portland cement manufacturing plants.

Abstract: The National Emission Standards for Hazardous Air Pollutants (NESHAP) for Portland Cement were promulgated on June 14, 1999. The affected entities are subject to the General Provisions of the National Emission Standards for Hazardous Air Pollutants (NESHAP) at 40 CFR part 63, subpart A that apply to all NESHAP sources. These requirements include recordkeeping and reporting for startup, shutdown, malfunctions, and semiannual reporting. Exceptions to the General Provisions for this source category are delineated in the standard and include initial notifications to the Agency for new, reconstructed and existing.

Respondents submit notifications and reports of performance test results. Respondents must also: Develop and implement a startup, shutdown and a malfunction plan; submit semiannual reports; develop and implement an operations and maintenance plan; conduct and report the results of an annual combustion system inspection.

Burden Statement: In the previously approved ICR, the estimated number of respondents for this information collection was 107 with 214 responses per year. The annual industry reporting and recordkeeping burden for this collection of information was 53,181 hours. On average, each respondent reported 2.0 times per year and 249 hours were spent preparing each response. The total annualized cost was $685,000, which was comprised of no capital/startup costs and operation and maintenance costs of $685,000.

(3) NESHAP for Inorganic Arsenic Emissions from Glass Manufacturing Plants (40 CFR Part 61, Subpart N); EPA ICR Number 1081.08; OMB Control Number 2060-0043; expiration date October 31, 2005.

Affected Entities: Entities potentially affected by this action are each glass melting furnace that uses commercial arsenic as a raw material. These standards do not apply to pot furnaces. In addition, rebricking is not considered construction or modification for the purposes of this standard.

Abstract: The National Emission Standards for Hazardous Air Pollutants (NESHAP) for Inorganic Arsenic Emissions from Glass Manufacturing Plants (40 CFR Part 61, Subpart N) were proposed on July 20, 1983, and promulgated on August 4, 1986. The standards were amended on May 31, 1990, to add an alternative test method. The affected entities are subject to the General Provision of the National Emission Standards for Hazardous Air Pollutants (NESHAP) at 40 CFR part 61, subpart A and any changes, or additions to the General Provisions specified at 40 CFR part 61, subpart N.

In general, all NESHAP standards require initial notifications, performance tests, and periodic reports. Owners or operators are also required to maintain records of the occurrence and duration of any startup, shutdown, or malfunction in the operation of an affected facility, or any period during which the monitoring system is inoperative. These notifications, reports, and records are essential in determining compliance, and are required of all sources subject to NESHAP.

Burden Statement: In the previously approved ICR, the estimated number of respondents for this information collection was 28 with 31 responses per year. The annual industry reporting and recordkeeping burden for this collection of information was 4,524 hours. On average, each respondent reported 1.1 times per year and 146 hours were spent preparing each response. The total annualized cost was $98,000, which was comprised of no capital/startup costs and operation and maintenance costs of $98,000.

(4) NSPS for Sulfuric Acid Plants (40 CFR Part 60, Subpart H); EPA ICR Number 1057.10; OMB Control Number 2060-0041; expiration date October 31, 2005.

Affected Entities: Entities potentially affected by this action are any sulfuric acid plants.

Abstract: The New Source Performance Standards (NSPS) for Sulfuric Acid Plants (40 CFR Part 60, Subpart H) were proposed on August 17, 1971 and promulgated on December 23, 1971. The affected entities are subject to the General Provision of the New Source Performance Standards (NSPS) at 40 CFR part 60, subpart A and any changes, or additions to the General Provisions specified at 40 CFR part 60, subpart H. These standards apply to any sulfuric acid facility commencing construction, modification or reconstruction after the date of proposal.

In general, all NSPS standards require initial notifications, performance tests, and periodic reports. Owners or operators are also required to maintain records of the occurrence and duration of any startup, shutdown, or malfunction in the operation of an affected facility, or any period during which the monitoring system is inoperative.

Burden Statement: In the previously approved ICR, the estimated number of respondents for this information collection was 106 with 212 responses per year. The annual industry reporting and recordkeeping burden for this collection of information was 23,320 hours. On average, each respondent reported 2.0 times per year and 110 hours were spent preparing each response. The responses were prepared semiannually. The total annualized cost was $477,000, which was comprised of no capital/startup cost and operation and maintenance costs of $477,000.

(5) NSPS for Primary and Secondary Emissions from Basic Oxygen Furnaces (40 CFR Part 60, Subparts N and Na); EPA ICR Number 1069.08; OMB Control Number 2060-0029; expiration date October 31, 2005.

Affected Entities: Entities potentially affected by this action are sources with basic oxygen process furnace shops.

Abstract: The New Source Performance Standards (NSPS) for Primary Emissions from Basic Oxygen Process Furnaces (BOPF) (40 CFR part 60, subpart N) were proposed on June 11, 1973, and promulgated on March 8, 1974. On January 20, 1983, amendments to the standards of performance for primary emissions from BOPF, merged with Standards of Performance for Secondary Emissions from Basic Oxygen Process Steelmaking Facilities (40 CFR part 60, subpart Na). Subpart Na is applicable to any top-blown BOPF, hot metal transfer station or skimming station for which construction, reconstruction, or modification commenced after January 20, 1983.

The affected entities are subject to the General Provision of the National Emission Standards for Hazardous Air Pollutants (NESHAP) at 40 CFR part 63, subpart A and any changes, or additions to the General Provisions specified at 40 CFR part 63, subparts N and Na. NSPS standards require sources to submit initial notifications, conduct performance tests, and submit periodic reports. Owners or operators are also required to maintain records of the occurrence and duration of any startup, shutdown, or malfunction in the operation of an affected facility, or any period during which the monitoring system is inoperative. Monitoring requirements specific to BOPF shops subject to NSPS subparts N and Na provide information on the operation of the emissions control device and compliance with the mass and visible emission standards. Semiannual reports of measurements that average 10 percent below the average measurements obtained during performance tests are required.

Burden Statement: In the previously approved ICR, the estimated number of respondents for this information collection was four with ten responses per year. The annual industry reporting and recordkeeping burden for this collection of information was 1,012 hours. On average, each respondent reported 2.5 times per year and spent 101 hours preparing each response.

The total annualized cost for continuous emissions monitoring was $25,794, which was comprised of capital/startup costs of $18,000 and operation and maintenance (O&M) costs of $7,794.

(6) NESHAP for Primary Lead Smelters (40 CFR Part 63, Subpart TTT); EPA ICR Number 1856.05; OMB Control Number 2060-0414; expiration date is October 31, 2005.

Affected Entities: Entities potentially affected by this action are sources with primary lead smelters.

Abstract: The National Emission Standards for Hazardous Air Pollutants (NESHAP) for Primary Lead Smelters, published at 40 CFR part 63, subpart TTT, were proposed on April 17, 1998 (63 FR 19200), and promulgated on June 4, 1999 (64 FR 30204). On February 12, 1999, the Agency publicized a supplemental standard for ferroalloys, mineral wool, primary copper, primary lead and wool fiberglass which enhanced the requirements for bag leak detection systems in 40 CFR 63.1625 and 40 CFR 63.1655 by including an enforceable operating limit in this standard.

The monitoring, recordkeeping, and reporting requirements outlined in the standard are similar to those required for other NESHAP standards. Plants must demonstrate compliance with the emission standards by monitoring their control devices and performing annual emissions testing. Consistent with the NESHAP General Provisions (40 CFR Part 63, Subpart A), all sources subject to this standard are required to submit one-time notifications of applicability; a one-time report on performance test results for the primary emission control device; an initial report specifying the intended methods of compliance; standard operating procedure manuals for baghouses and fugitive dust control; and a semiannual report that includes a summary of the monitoring results, any baghouse leak detection system alarms and corrective actions. Sources must also maintain records of production for unrefined lead, copper matte, and copper species; the date and times of bag leak detection system alarms and the corrective action taken; baghouse inspection and maintenance; any records required as part of the source standard operating procedures manuals; and the compliance methods chosen. These notifications, reports, and records are essential in determining compliance, and are required of all sources subject to NESHAP.

Burden Statement: In the previously approved ICR, the estimated number of respondents for this information collection was two with four responses per year. The annual industry reporting and recordkeeping burden for this collection of information was 12,273 hours. On average, each respondent reported 2.0 times per year and spent 3,068 hours preparing each response. The responses were prepared to meet semiannual reporting requirements.

The total annualized cost associated with continuous emissions monitoring was $6,452 which was comprised of capital/startup costs of $4,000 and operation and maintenance costs of $2,452.

(7) NSPS for Petroleum Refineries (40 CFR Part 60, subpart J), EPA ICR Number 1054.09; OMB Control Number 2060-0022; expiration date November 30, 2005.

Affected Entities: Entities potentially affected by this action are petroleum refineries.

Abstract: The New Source Performance Standards (NSPS) for Petroleum Refineries was promulgated on March 8, 1974. The affected entities are subject to the General Provisions of the NSPS at 40 CFR Part 60, Subpart A and any changes, or additions to the General Provisions specified at 40 CFR Part 60, Subpart J. In general, all NSPS require initial notifications, performance tests, and periodic reports. Owners or operators are also required to maintain records of the occurrence and duration of any startup, shutdown, or malfunction in the operation of an affected facility, or any period during which the monitoring system is inoperative.

Burden Statement: In the previously approved ICR, the estimated number of respondents for this information collection was 240 with 240 responses per year. The annual industry reporting and recordkeeping burden for this collection of information was 17,359 hours. Each respondent reported 1.0 times per year and the average public reporting and recordkeeping burden for this collection is estimated to be 72 hours per response. The responses were prepared semiannually. There were no capital/startup costs. However, there were operation and maintenance costs in the previous ICR of $91,000.

(8) NESHAP for Source Categories Generic Maximum Achievable Control Technology Standards (40 CFR Part 63, Subpart YY); EPA ICR Number 1871.04; OMB Control Number 2060-0420; expiration date December 31, 2005.

Affected Entities: Entities potentially affected by this action are plants producing polycarbonates, acrylic and modacrylic fibers, acetal resins and hydrogen fluoride.

Abstract: The National Emission Standards for Hazardous Air Pollutants (NESHAP) for Source Categories: Generic Maximum Achievable Control Technology (hereafter, this subpart is referred to as the “Generic MACT”) were proposed on October 14, 1998 at 63 FR 55178 and promulgated on June 29, 1999 at 64 FR 34854. The standards apply to hazardous air pollutant emissions in four source categories: polycarbonates production, acrylic and modacrylic fibers Production, acetal resins production and hydrogen fluoride production. On November 2, 2001, the Agency promulgated wastewater provisions amendments to the Generic MACT applicable to wastewater streams for the first three categories. The last category does not have wastewater streams. On June 7, 2002, the Agency made additional amendments as a direct ruling to the Generic MACT to clarify definitions and the recordkeeping provisions related to how readily accessible records should be maintained.

The affected entities are subject to the General Provision of the National Emission Standards for Hazardous Air Pollutants (NESHAP) at 40 CFR part 63, subpart A and any changes, or additions to the General Provisions specified at 40 CFR part 63, subpart YY. In general, NESHAP standards require initial notifications, performance tests, and periodic reports. Owners or operators are also required to maintain records of the occurrence and duration of any startup, shutdown, or malfunction in the operation of an affected facility, or any period during which the monitoring system is inoperative. The specific monitoring and recordkeeping requirements vary for each source category depending on the types of emissions control equipment and monitoring equipment used to comply with the Generic MACT standards for their category. These notifications, reports, and records are essential in determining compliance, and are required of all sources subject to NESHAP.

Burden Statement: In the previously approved ICR, the estimated number of respondents for this information collection was 10 with 30 responses per year. The annual industry reporting and recordkeeping burden for this collection of information was 4,077 hours. On average, each respondent reported 3.0 times per year and 136 hours were spent preparing each response. The responses were prepared semiannually. The total annualized cost was $107,000, which was comprised of no capital/startup costs and operation and maintenance costs of $107,000.

(9) NSPS for Municipal Solid Waste Landfills (40 CFR Part 60, Subpart WWW); EPA ICR Number 1557.06; OMB Control Number 2060-0220; expiration date October 31, 2005.

Affected Entities: Entities potentially affected by this action are municipal solid waste landfills.

Abstract: The New Source Performance Standards (NSPS) for Municipal Solid Waste Landfills (40 CFR Part 60, Subpart WWW) were proposed on May 30, 1991 and promulgated on March 12, 1996. The affected entities are subject to the General Provision of the New Source Performance Standards (NSPS) at 40 CFR part 60, subpart A and any changes, or additions to the General Provisions specified at 40 CFR part 60, subpart WWW. Owners and operators of the affected facilities must make initial reports when a source becomes subject to this standard: (1) To conduct and report on performance tests, (2) report of annual or periodic emission rates, (3) report on design plans, (4) report on equipment removal and closure, (5) maintain records of the reports, system design and performance tests, monitoring and exceedances, plot map, and well locations. The recordkeeping and reporting requirements are specific to municipal solid waste landfills.

Burden Statement: In the previously approved ICR, the estimated number of respondents for this information collection was 175 with 299 responses per year. The annual industry reporting and recordkeeping burden for this collection of information was 3,390 hours. On average, each respondent reported 1.7 times per year and 11 hours were spent preparing each response. The responses were prepared annually and quarterly. The total annualized cost was $107,000, which was comprised of capital/startup costs of $105,000 and operation and maintenance costs of $2,000.

(10) NSPS for Calciners and Dryers in Mineral Industries (40 CFR Part 60, Subpart UUU); EPA ICR Number 0746.06; OMB Control Number 2060-0251; expiration date December 31, 2005.

Affected Entities: Entities potentially affected by this action are calciners and dryers at mineral processing plants. Entities subject to NSPS 40 CFR part 60, subpart LL for metallic mineral processing plants are not subject to this standard.

Abstract: The New Source Performance Standards (NSPS) for Calciners and Dryers in Mineral Industries (40 CFR Part 60, Subpart UUU) were proposed on April 23, 1986, and promulgated on September 28, 1992. The affected entities are subject to the General Provision of the New Source Performance Standards (NSPS) at 40 CFR part 60, subpart A and any changes, or additions to the General Provisions specified at 40 CFR part 60, subpart UUU. NSPS standards require initial notifications, performance tests, and periodic reports. Owners or operators are also required to maintain records of the occurrence and duration of any startup, shutdown, or malfunction in the operation of an affected facility, or any period during which the monitoring system is inoperative.

Burden Statement: In the previously approved ICR, the estimated number of respondents for this information collection was 165 with 342 responses per year. The annual industry reporting and recordkeeping burden for this collection of information was 6,506 hours. On average, each respondent reported 2.1 times per year and 19 hours were spent preparing each response. The responses were prepared semiannually. The total annualized cost was $115,000, which was comprised of capital/startup costs of $8,000 and operation and maintenance costs of $107,000.

(11) NSPS for Metal Coil Surface Coating (40 CFR Part 60, Subpart TT); EPA ICR Number 0660.09; OMB Control Number 2060-0107; expiration date December 31, 2005.

Affected Entities: Entities potentially affected by this action are owners or operators of metal coil surface coating facilities.

Abstract: The New Source Performance Standards (NSPS) for Metal Coil Surface Coating were promulgated on November 1, 1982. These standards apply to metal coil surface coating facilities commencing construction, modification or reconstruction after January 5, 1981.

The affected entities are subject to the General Provisions of the NSPS at 40 CFR part 60, subpart A that apply to all NSPS sources. These requirements include recordkeeping and reporting for startup, shutdown, malfunctions and quarterly or semiannual reporting. Exceptions to the General Provisions for this source category are delineated in the standard and include initial notifications to the Agency for new, reconstructed and existing affected entities.

Owners or operators of the affected facilities must make the following one-time-only reports: Notification of the date of construction or reconstruction; notification of the anticipated and actual dates of a startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative. Where compliance is achieved through the use of low volatile (VOC)coatings without emission control devices, or through the use of higher VOC content coating in conjunction with emission control devices, each owner or operator shall include in the initial compliance report the weighted average of the VOC content of coatings used during the period of each calendar month. When compliance is achieved using an emission control device, each owner or operator shall include in the initial compliance report the overall VOC destruction rate used to attain compliance and the combustion temperature of the thermal incinerator, or the gas temperature both upstream and downstream of the incinerator catalyst bed. The standards also require reports of incinerator temperature drop.

Burden Statement: In the previously approved ICR, the estimated number of respondents for this information collection was 165 with 404 responses per year. The annual industry reporting and recordkeeping burden for this collection of information was 14,531 hours. On average, each respondent reported approximately 2.4 times per year and 36 hours were spent preparing each response. The total annualized cost was $318,000, which was comprised of capital/startup costs of $28,000 and operation and maintenance costs of $290,000.

(12) NSPS for Bulk Gasoline Terminals (40 CFR Part 60, subpart XX), EPA ICR Number 0664.08; OMB Control Number 2060-0006; expiration date December 31, 2005.

Affected Entities: Entities potentially affected by this action are Bulk Gasoline Terminals which deliver liquid product into gasoline tank trucks.

Abstract: The New Source Performance Standards (NSPS) for Bulk Gasoline Terminals were promulgated on August 18, 1983, and amended on December 22, 1983. The affected entities are subject to the General Provisions of the NSPS at 40 CFR Part 60, Subpart A and any changes, or additions to the General Provisions specified at 40 CFR Part 60, Subpart XX. Owners or operators of the affected facilities subject to NSPS subpart XX must make the following one-time only reports: notification of the date of construction or reconstruction; notification of the anticipated and actual dates of startup; notification of any physical or operational change to an existing facility which may increase the regulated pollutant emission rate; notification of the date of the initial performance test; and the results of the initial performance test. Owners or operators are also required to maintain records of the occurrence and duration of any startup, shutdown, or malfunction in the operation of an affected facility, or any period during which the monitoring system is inoperative.

Burden Statement: In the previously approved ICR, the estimated number of respondents for this information collection was 40 with 40 responses per year. The annual industry reporting and recordkeeping burden for this collection of information was 11,420 hours. Each respondent provided 1.0 responses per year. The average public reporting and recordkeeping burden for this collection is estimated to be 286 hours per response. The responses were prepared at one time only. There were no capital/startup costs or operation and maintenance costs associated with continuous emission monitoring in the previous ICR.

(13) NSPS for Equipment Leaks of VOC in Petroleum Refineries (40 CFR Part 60, subpart GGG), EPA ICR Number 0983.08; OMB Control Number 2060-0067; expiration date December 31, 2005.

Affected Entities: Entities potentially affected by this action are compressors and all equipment within a process unit at petroleum refineries.

Abstract: The New Source Performance Standards (NSPS) for Equipment Leaks of VOC (Volatile Organic Compounds) in Petroleum Refineries were promulgated on May 30, 1984. The affected entities are subject to the General Provisions of the NSPS at 40 CFR Part 60, Subpart A and any changes, or additions to the General Provisions specified at 40 CFR Part 60, Subpart GGG. Facilities subject to this NSPS require initial notifications, performance tests, and periodic reports. Owners or operators are also required to maintain records of the occurrence and duration of any startup, shutdown, or malfunction in the operation of an affected facility, or any period during which the monitoring system is inoperative. Monitoring requirements specific to NSPS subpart GGG provide information on which components are leaking VOCs. NSPS subpart GGG references the compliance requirements of NSPS subpart VV. Owners or operators are required to periodically record information identifying leaking equipment, repair methods used to stop the leaks, and dates of repair. The responses were prepared weekly, monthly, quarterly, semiannually, annually and one time only for initial notifications. In addition, semiannual reports are required to measure compliance with the standards of NSPS subpart VV as referenced by NSPS subpart GGG.

Burden Statement: In the previously approved ICR, the estimated number of respondents for this information collection was 48 with 102 responses per year. The annual industry reporting and recordkeeping burden for this collection of information was 6,137 hours. Each respondent provided 2.1 responses per year. The average public reporting and recordkeeping burden for this collection is estimated to be 60 hours per response. There were no capital/startup costs or operation and maintenance costs associated with continuous emission monitoring in the previous ICR.

(14) NSPS for Glass Manufacturing Plants (40 CFR Part 60, Subpart CC); EPA ICR Number 1131.08; OMB Control Number 2060-0054; expiration date December 31, 2005.

Affected Entities: Entities potentially affected by this action are the glass melting furnaces located at a glass manufacturing plants.

Abstract: The New Source Performance Standards (NSPS) for 40 CFR Part 60, Subpart CC were proposed on June 15, 1979, promulgated on October 7, 1980, and amended on October 19, 1984. The affected entities are subject to the General Provision of the New Source Performance Standards (NSPS) at 40 CFR part 60, subpart A and any changes, or additions to the General Provisions specified at 40 CFR part 60, subpart CC. These standards apply to each glass melting furnace located at a glass manufacturing plant. NSPS standards require initial notifications, performance tests, and periodic reports. Owners or operators are also required to maintain records of the occurrence and duration of any startup, shutdown, or malfunction in the operation of an affected facility, or any period during which the monitoring system is inoperative.

Burden Statement: In the previously approved ICR, the estimated number of respondents for this information collection was 45 with 87 responses per year. The annual industry reporting and recordkeeping burden for this collection of information was 590 hours. On average, each respondent reported 1.9 times per year and seven hours were spent preparing each response. The responses were prepared semiannually. The total annualized cost was $261,000, which was comprised of no capital/startup costs and operation and maintenance costs of $261,000.

(15) NESHAP for Wet-Formed Fiberglass Mat Production (40 CFR Part 63, Subpart HHHH); EPA ICR Number 1964.03; OMB Control Number 2060-0496; expiration date December 31, 2005.

Affected Entities: Entities potentially affected by this action are component processes at wet-formed fiberglass mat production facilities.

Abstract: The National Emission Standards for Hazardous Air Pollutants (NESHAP) for Primary Lead Smelters, published at 40 CFR part 63, subpart HHHH, were proposed on May 26, 2000 (65 FR 34251), and promulgated on April 11, 2002 (67 FR 17823).

Owners and operators of affected sources are subject to the monitoring, recordkeeping and reporting requirements of 40 CFR part 63, subpart A, the General Provisions, unless specified otherwise in subpart HHHH. This standard requires sources to submit initial notifications, conduct performance tests, and submit periodic reports. In addition, sources are required to maintain records of the occurrence and duration of any startup, shutdown, or malfunction in the operation of an affected facility; any period during which the monitoring system is inoperative; bag leak detection system alarms, including corrective actions; parametric monitoring data; system maintenance and calibration; and opacity and visible emissions observations to demonstrate initial and ongoing compliance with the standard.

Burden Statement: In the previously approved ICR, the estimated number of respondents for this information collection was 14 with 14 responses per year. The annual industry reporting and recordkeeping burden for this collection of information was 2,983 hours. On average, each respondent reported 1.0 times per year and spent 213 hours preparing each response.

The total annualized cost for continuous emissions monitoring was $2,333, which was comprised of capital/startup costs only. This cost is based on seven facilities installing continuous emission monitors. There were no operation and maintenance costs associated with continuous emission monitoring in the previous ICR.

(16) NESHAP for Asbestos (40 CFR Part 61, Subpart M), EPA ICR Number 0111.11; OMB Control Number 2060-0101; expiration date March 31, 2006.

Affected Entities: Entities potentially affected by this action are: (1) Those where demolition and renovation of facilities are taking place, (2) those where disposal of asbestos is taking place, (3) those where asbestos milling, manufacturing and fabricating are taking place, (4) those where asbestos is being used on roadways, (5) those where asbestos waste is being converted, and (6) those where asbestos is used in insulation and sprayed on materials.

Abstract: The NESHAP for Asbestos was promulgated on November 20, 1990. The affected entities are subject to the General Provisions of the NESHAP at 40 CFR Part 61, Subpart A and any changes or additions to the General Provisions specified at 40 CFR Part 61, Subpart M.

Owners or operators of the affected milling, manufacturing, fabricating, waste disposal, and waste conversion facilities must make the following one-time-only reports: notification of the date of construction or reconstruction; notification of the anticipated and actual dates of startup; notification of any physical or operational change to an existing facility which may increase the regulated pollutant emission rate. Owners or operators are also required to maintain records of the occurrence and duration of any startup, shutdown, or malfunction in the operation of an affected facility, or any period during which the monitoring system is inoperative.

The recordkeeping requirements for the facilities mentioned above consist of the occurrence and duration of any startup and malfunction as described. They include the initial performance test results including information necessary to determine the conditions of the performance test, and performance test measurements and results, including monitoring each potential source of asbestos emissions for visible emissions to the outside air and inspecting air cleaning devices to ensure proper operation. Records of startups, shutdowns, and malfunctions should be noted as they occur. The reporting requirements for this industry include the initial notifications, performance test results and quarterly reports of instances when visible emissions are observed at any time during the quarter.

Owners and operators of demolitions and renovations must notify EPA in advance of the initiation of any asbestos removal work. The notice provides information on the dates of operation, the nature of the removal operation, the quantity of asbestos, and controls to be used. The reviewing authority may then inspect the source to ensure compliance with the standard. Demolitions and renovations tend to be short-term projects and it is difficult at best to determine compliance with the standard once the project has been completed. Therefore, it is important that the delegated authority be notified of the changes as necessary when information in the original notification changes. Additionally, without notification of the changes, the Agency or delegated authority may inspect a demolition or renovation site where the project has been delayed. The demolition and renovation standard requires that a representative (such as a foreman or management-level person) trained in the provisions of the standard be present at the facility. Evidence that the required training has been completed is required in order to ensure compliance with this provision of the standard. The standard requires asbestos removal contractors that claim exemption from the wetting provisions because of freezing temperatures to take temperature readings throughout the day and record the information. The provisions require that all containers of asbestos waste be labeled including the name of the waste generator and the location of where the waste was generated. Owners or operators of demolitions and renovations are required to prepare and maintain records of each waste shipment as to its destination, the quantity of waste, and the date of shipment, and to furnish a copy of the record to disposal site owners or operators. The standard also requires that the generators of asbestos waste attempt to reconcile instances in which a signed copy of the waste shipment record is not received from the disposal site and that the generator notify the Agency if delivery to the disposal site cannot be confirmed.

Owners and operators of waste disposal sites are required to document all asbestos waste shipments that are received and send a copy of each record back to the generator. A record of the location and quantity of asbestos in the landfill is required as well as noting the presence and location of asbestos in the landfill property deed. Disposal site owners and operators have to report to EPA any discrepancies between the amount of waste designated on the waste shipment record and the amount actually received, as well as instances of improperly contained waste. An owner or operator of an operation in which asbestos-containing materials are spray-applied must notify EPA in advance of the spraying operation.

Any owner or operator subject to the provisions of this part shall maintain a file of these measurements, and retain the file for at least two years following the date of such measurements, and records.

Burden Statement: In the previously approved ICR, the estimated number of respondents for this information collection was 9,848 with 123,008 responses per year. The annual industry reporting and recordkeeping burden for this collection of information was 342,249 hours. Each responded provided 13 responses per year. The average recordkeeping and reporting burden for this ICR was 2.8 hours per response. There were no capital/startup costs or operation and maintenance costs associated with continuous emission monitoring in the previous ICR.

(17) NSPS for Beverage Can Surface Coating (40 CFR Part 60, Subpart WW); EPA ICR Number 0663.09; OMB Control Number 2060-0001; expiration date April 30, 2006.

Affected Entities: Entities potentially affected by this action are owners and operators of beverage can surface coating facilities.

Abstract: The New Source Performance Standards (NSPS) for Beverage Can Surface Coating were promulgated on August 25, 1983.

The affected entities are subject to the General Provisions of the New Source Performance Standards (NSPS) at 40 CFR part 60, subpart A that apply to all NSPS sources. These requirements include recordkeeping and reporting for startup, shutdown, malfunctions, and semiannual reporting. Exceptions to the General Provisions for this source category are delineated in the standard and include initial notifications to the Agency for new, reconstructed and existing affected entities. Volatile organic compounds (VOC) are the pollutants regulated under the standards.

Respondents potentially affected by this action are facilities in the beverage can surface coating industry including: each exterior base coat operation, each over varnish coating operation, and each inside spray coating operation. These standards apply to coating facilities commencing construction, modification or reconstruction after November 26, 1980.

Owners or operators of the affected facilities described must make the following one-time-only reports: notification of the date of construction or reconstruction; notification of the anticipated and actual dates of a startup; notification of any physical or operational change to an existing facility which may increase the regulated pollutant emission rate; notification of the date of the initial performance test; and results of the initial performance test. Owners or operators are also required to maintain records of the occurrence and duration of any startup, shutdown, or malfunction in the operation of an affected facility, or any period during which the monitoring system is inoperative. Records must be maintained if the VOC content of coatings is below the specified limits. If one or more coatings are used, the volume weighted average of the total mass of VOC per volume of coating solids must be recorded. When thermal or catalytic incineration is performed, the owner shall keep records of each three-hour period during which the incinerator temperature averaged more than 28 degrees Celsius below the temperature of the most recent performance test at which destruction efficiency was determined. The owners or operators shall identify, record and submit quarterly reports of each instance in which the volume-weighted average of the total mass of VOC per volume of coating solids exceeded the standard. If there are no exceedances reports shall be submitted semiannually. Owners or operators are required to maintain a file of all measurements including the monitoring device, and performance testing measurements; all monitoring device calibration check adjustments and maintenance performed on these systems recorded in a permanent file.

Burden Statement: In the previously approved ICR, the estimated number of respondents for this information collection was 48 with 123 responses per year. The annual industry reporting and recordkeeping burden for this collection of information was 4,642 hours. On average, each respondent reported 2.6 times per year and 38 hours were spent preparing each response. The responses were prepared quarterly and semiannually. The total annualized cost was $97,000, which was comprised of capital/startup costs of $14,000 and operation and maintenance costs of $83,000.

(18) NSPS for Grain Elevators (40 CFR Part 60, Subpart DD); EPA ICR Number 1130.08; OMB Control Number 2060-0082; expiration date April 30, 2006.

Affected Entities: Entities potentially affected by this action are operations at grain elevators.

Abstract: The New Source Performance Standards (NSPS) for grain elevators were proposed on January 18, 1977 and promulgated on August 3, 1978. The affected entities are subject to the General Provision of the New Source Performance Standards (NSPS) at 40 CFR part 60, subpart A and any changes, or additions to the General Provisions specified at 40 CFR part 60, subpart DD. Owners or operators of the facilities must make one-time-only notifications. Owners or operators are also required to maintain records of the occurrence and duration of any startup, shutdown, or malfunction in the operation of an affected facility, or any period during which the monitoring system is inoperative. Monitoring requirements specific to grain elevators provide information on the operation of the emissions control device and compliance with the opacity standard.

Burden Statement: In the previously approved ICR, the estimated number of respondents for this information collection was 132 with 155 responses per year. The annual industry reporting and recordkeeping burden for this collection of information was 259 hours. On average, each respondent reported 1.2 times per year and 1.7 hours were spent preparing each response. There were no capital/startup costs or operation and maintenance costs associated with continuous emission monitoring in the previous ICR.

(19) NSPS for Kraft Pulp Mills (40 CFR Part 60, Subpart BB); EPA ICR Number 1055.08; OMB Control Number 2060-0021; expiration date April 30, 2006.

Affected Entities: Entities potentially affected by this action are owners or operators of kraft pulp mills.

Abstract: The New Source Performance Standards (NSPS) for Kraft Pulp Mills were promulgated on February 23, 1978.

The affected entities are subject to the General Provisions of the New Source Performance Standards (NSPS) at 40 CFR part 60, subpart A that apply to all NSPS sources. These requirements include recordkeeping and reporting for startup, shutdown, malfunctions, and semiannual reporting. Exceptions to the General Provisions for this source category are delineated in the standard and include initial notifications to the Agency for new, reconstructed and existing affected entities.

Respondents potentially affected by this action are affected facilities at kraft pulp mills including digester systems, brown stock washer systems, multiple effect evaporator systems, recovery furnaces, smelt dissolving tanks, lime kilns, and condensate stripper systems that were constructed, modified or reconstructed after September 24, 1976. In pulp mills where kraft pulping is combined with neutral sulfite semi-chemical pulping, the provisions of this subpart are applicable when any portion of the material charged to an affected facility is produced by the kraft pulping operation. A facility may be exempt from the total reduced sulfur (TRS) standard if the facility can demonstrate that TRS from a new, modified or reconstructed brown stock washer cannot be technically nor economically feasiblely controlled.

In addition to the monitoring, recordkeeping and reporting requirements listed in the General Provisions (40 CFR part 60, subpart A), sources are required to record, at least once per shift, the following specific parameters: The opacity of the gases discharged into the atmosphere from any recovery furnace; the concentration of TRS emissions on a dry basis and the percent of oxygen by volume on a dry basis in the gases discharged into the atmosphere; for an incinerator, the combustion temperature at the point of incineration of effluent gases being emitted by the affected facilities; and for any lime kiln or melt discharge tank using a scrubber emission control device, the pressure loss of the gas stream through the control equipment and the scrubbing liquid pressure to the control equipment. Sources are also required to record on a daily basis 12-hour average TRS concentrations and oxygen concentrations (for the recovery furnace and lime kiln) for two consecutive periods of each operating.

Sources must report semiannually measurements of excess emissions as defined by the standard for the applicable affected facility.

Burden Statement: In the previously approved ICR, the estimated number of respondents for this information collection was 92 with 194 responses per year. The annual industry reporting and recordkeeping burden for this collection of information was 12,107 hours. On the average, each respondent reported approximately 2.1 times per year and 62 hours were spent preparing each response. The responses were prepared semiannually. The total annual reporting and recordkeeping cost burden for this collection of information was $3,144,000. This included an annual cost of $300,000 associated with capital/startup costs and $2,844,000 associated with the annual operation and maintenance costs.

(20) NSPS for Lime Manufacturing (40 CFR Part 60, Subpart HH); EPA ICR Number 1167.08; OMB Control Number 2060-0063; expiration date April 30, 2006.

Affected Entities: Entities potentially affected by this action are rotary lime kiln used in lime manufacturing.

Abstract: The New Source Performance Standards (NSPS) for the standards published at 40 CFR Part 60, Subpart HH were proposed on May 3, 1977, and promulgated on April 26, 1984. The affected entities are subject to the General Provision of the New Source Performance Standards (NSPS) at 40 CFR part 60, subpart A and any changes, or additions to the General Provisions specified at 40 CFR part 60, subpart HH. The standards do not apply to facilities used in the manufacture of lime at kraft pulp mills. NSPS standards require initial notifications, performance tests, and periodic reports. Owners or operators are also required to maintain records of the occurrence and duration of any startup, shutdown, or malfunction in the operation of an affected facility, or any period during which the monitoring system is inoperative.

Burden Statement: In the previously approved ICR, the estimated number of respondents for this information collection was 55 with 106 responses per year. The annual industry reporting and recordkeeping burden for this collection of information was 4,434 hours. On average, each respondent reported 1.9 times per year and 42 hours were spent preparing each response. The total annualized cost was $92,000, which was comprised of capital/startup costs of $15,000 and operation and maintenance costs of $77,000.

(21) NSPS for Hot Mix Asphalt Facilities (40 CFR Part 60, Subpart I); EPA ICR Number 1127.08; OMB Control Number 2060-0083; expiration date April 31, 2006.

Affected Entities: Entities potentially affected by this standard are emission sources at hot mix asphalt facilities.

Abstract: The New Source Performance Standards (NSPS) for Hot Mix Asphalt Facilities were proposed on June 11, 1973, and promulgated on July 25, 1977.

The affected entities are subject to the General Provision of the New Source Performance Standards (NSPS) at 40 CFR part 60, subpart A and any changes, or additions to the General Provisions specified at 40 CFR part 60, subpart I. NSPS standards require sources to submit initial notifications, conduct performance tests, and submit periodic reports. Owners or operators are also required to maintain records of the occurrence and duration of any startup, shutdown, or malfunction in the operation of an affected facility, or any period during which the monitoring system is inoperative. Monitoring requirements specific to hot mix asphalt facilities include particulate matter and opacity monitoring. Semiannual reports of excess emissions are required. These notifications, reports, and records are essential in determining compliance.

Burden Statement: In the previously approved ICR, the estimated number of respondents for this information collection was 2,835 with 3,403 responses per year. The annual industry reporting and recordkeeping burden for this collection of information was 10,303 hours. On average, each respondent reported 1.20 per year and spent three hours preparing each response. There were no capital/startup costs or operation and maintenance costs in the previous ICR.

(22) NESHAP for Municipal Solid Waste Landfills (40 CFR Part 63, Subpart AAAA); EPA ICR Number 1938.03; OMB Control Number 2060-0505; expiration date April 30, 2006.

Affected Entities: Entities potentially affected by this action are municipal solid waste landfills (MSW) that: (1) Have a design capacity of 2.5 million megagrams (Mg) and 2.5 million cubic meters (m3), and (2) emit equal to or greater than 50 tons per year of nonmethane organic compounds (NMOC)or operate as bioreactors.

Abstract: The National Emission Standards for Hazardous Air Pollutants (NESHAP) for Municipal Solid Waste Landfills (40 CFR Part 63, Subpart AAAA) were proposed on November 7, 2000, and promulgated on January 16, 2003. The affected entities are subject to the General Provision of the National Emission Standards for Hazardous Air Pollutants (NESHAP) at 40 CFR part 63, subpart A and any changes, or additions to the General Provisions specified at 40 CFR part 63, subpart AAAA. Each owner or operator of an MSW landfill affected by the standard is required to submit semiannual compliance reports for control device operating parameters. Owners and operators of affected facilities also have to prepare a startup, shutdown, and malfunction plan.

Burden Statement: In the previously approved ICR, the estimated number of respondents for this information collection was 1,330 with 1,330 responses per year. The annual industry reporting and recordkeeping burden for this collection of information was 39,360 hours. On average, each respondent reported 1.0 times per year and 30 hours were spent preparing each response. The total annualized cost was $13,000, which was comprised of no capital/startup costs and operation and maintenance costs of $13,000.

(23) NESHAP for the Wood Building Products Surface Coating Industry (40 CFR Part 63, Subpart WWWW); Docket ID Number OECA-2005-0043; EPA ICR Number 2034.03; OMB Control Number 2060-0510; expiration date May 31, 2006.

Affected Entities: Entities potentially affected by this action are owners and operators of wood building products surface coating facilities.

Abstract: The National Emission Standards for Hazardous Air Pollutants (NESHAP) for the wood building products surface coating industry were promulgated on May 28, 2003.

The affected entities are subject to the General Provisions of the National Emission Standards for Hazardous Air Pollutants (NESHAP) at 40 CFR part 63, subpart A that apply to all NESHAP sources. These requirements include recordkeeping and reporting for startup, shutdown, malfunctions, and semiannual reporting. Exceptions to the General Provisions for this source category are delineated in the standard and include initial notifications to the Agency for new, reconstructed and existing affected entities, and notifications of compliance status.

Respondents are owners or operators of wood building products surface coating facilities. Respondents shall submit notifications and reports of initial and repeat performance test results. Facilities must develop and implement a startup, shutdown, and malfunction plan and submit semiannual reports of any event where the plan was not followed. Facilities must develop and implement an operations and maintenance plan and conduct and report the results of an annual combustion system inspection. Semiannual reports for periods of operation during which the monitoring parameters are exceeded or reports certifying that no exceedances have occurred also are required.

General requirements applicable to all NESHAP require records of applicability determinations; test results; exceedances; periods of startups, shutdowns, or malfunctions; monitoring records; and all other information needed to determine compliance with the applicable standard.

Subpart WWWW requires respondents to maintain records of all coatings, thinners, and cleaning materials data and calculations used to determine compliance. This information includes the volume used during each compliance period, mass fraction of organic HAP, density, and, for coatings only, volume fraction of coating solids. If an add-on control device is used, records will need to be kept of the capture efficiency of the capture device, destruction or removal efficiency of the control device, and the monitored operating parameters. In addition, records need to be kept of emission calculations, calculations, test results, and other supporting information.

Burden Statement: In the previously approved ICR, the estimated number of respondents for this information collection was 215 with 430 responses per year. The annual industry reporting and recordkeeping burden for this collection of information was 2,176 hours. On average, each respondent reported 2.0 times per year and 5 hours were spent preparing each response. The responses were prepared semiannually. The total annualized cost was $22,000 which was comprised of capital/startup costs of $22,000 and no operation and maintenance costs.

(24) NESHAP for Reinforced Plastics Composites Production (40 CFR Part 63, Subpart WWWW); EPA ICR Number 1976.03; OMB Control Number 2060-0509; expiration date May 31, 2006.

Affected Entities: The entities affected by this action are fugitive emission sources at reinforced plastic composites (RPC) production facilities using resins, gel coats, and cleaning solvents.

Abstract: The National Emission Standards for Hazardous Air Pollutants (NESHAP) for reinforced plastic composites (RPC) production operations and processes, published at 40 CFR part 63, subpart WWWW, were proposed on August 2, 2001 (66 FR 40323), and promulgated on April 21, 2003 (68 FR 19375).

Owners and operators of affected sources are subject to the monitoring, recordkeeping and reporting requirements of 40 CFR part 63, subpart A, the General Provisions, unless specified otherwise in subpart WWWW. This standard requires sources to submit initial notifications, conduct performance tests, and submit periodic reports. In addition, sources are required to maintain records of the occurrence and duration of any startup, shutdown, or malfunction in the operation of an affected facility; any period during which the monitoring system is inoperative; bag leak detection system alarms, including corrective actions; parametric monitoring data; system maintenance and calibration; and opacity and visible emissions observations to demonstrate initial and ongoing compliance with the standard. Records of such measurements and actions are to be retained two years on-site of the required total five years.

Burden Statement: In the previously approved ICR, the estimated number of respondents for this information collection was 469 with 548 responses per year. The annual industry reporting and recordkeeping burden for this collection of information was 13,785 hours. On average, each respondent reported 1.2 times per year and spent 25 hours preparing each response.

The total annualized cost for continuous emissions monitoring was $15,807 which was comprised of no capital/startup costs and operation and maintenance costs of $15,807.

(25) NESHAP for Publicly Owned Treatment Works (40 CFR Part 63, Subpart VVV), EPA ICR Number 1891.04, OMB Control Number 2060-0428, expiration date May 31, 2006.

Affected Entities: Entities potentially affected by this action are publically owned treatment works (POTW) located at a major source of hazardous air pollutant (HAP) emissions.

Abstract: The National Emissions Standards for Hazardous Air Pollutants (NESHAP) for Publically Owned Treatment Works (40 CFR Part 63, Subpart VVV) were promulgated on October 26, 1999. Owners and operators of affected sources are subject to the requirements of 40 CFR Part 63, Subpart A, the General Provisions, unless specified otherwise at subpart VVV. The standard requires that the respondents source submit applications for approval of construction or reconstruction. The information in the initial notification and the application for construction or reconstruction. Respondents are also required to submit one-time reports of (1) start of construction for new facilities and (2) anticipated and actual start-up dates for new facilities. Subpart VVV also requires affected sources to submit a notification of compliance status. This notification must be signed by a responsible company official who certifies its accuracy and certifies that the source has complied with the standards.

Burden Statement: In the previously approved ICR, the estimated number of respondents for this information collection were six with six responses per year. The annual industry reporting and recordkeeping burden for this collection of information was 216 hours. On average, each respondent reported 1.0 times per year and 36 hours were spent preparing each response. There were no capital/startup costs or operation and maintenance costs associated wit this ICR.

(26) NESHAP for Metal Furniture Surface Coating (40 CFR Part 63, Subpart RRRR); EPA ICR Number 1952.03; OMB Control Number 2060-0518; expiration date May 31, 2006.

Affected Entities: Entities potentially affected by this action are owners and operators of metal furniture surface coating facilities.

Abstract: The National Emission Standards for Hazardous Air Pollutants (NESHAP) for Metal Furniture Surface Coating were promulgated on May 23,2003.

The affected entities are subject to the General Provisions of the National Emission Standards for Hazardous Air Pollutants (NESHAP) at 40 CFR part 63, subpart A that apply to all NESHAP sources. These requirements include recordkeeping and reporting for startup, shutdown, malfunctions, and semiannual reporting. Exceptions to the General Provisions for this source category are delineated in the standard and include initial notifications to the Agency for new, reconstructed and existing affected entities, and notifications of compliance status.

Respondents are owners or operators of metal furniture surface coating facilities. Respondents shall submit notifications and reports of performance test results. Facilities must develop and implement a startup, shutdown, and malfunction plan and submit semiannual reports of any event where the plan was not followed. Facilities must develop and implement an operations and maintenance plan and conduct and report the results of an annual combustion system inspection. Semiannual reports for periods of operation during which the monitoring parameters are exceeded (or reports certifying that no exceedances have occurred) also are required.

General requirements applicable to all NESHAP require records of applicability determinations; test results; exceedances; periods of startups, shutdowns, or malfunctions; monitoring records; and all other information needed to determine compliance with the applicable standard.

Subpart RRRR requires respondents to maintain records of all coatings, thinners, and cleaning materials data and calculations used to determine compliance. This information includes the volume used during each monthly compliance period, mass fraction organic HAP, density, and, for coatings only, volume fraction solids. If an add-on control device is used, records must be kept of the capture efficiency of the capture system, destruction or removal efficiency of the add-on control device, and the monitored operating parameters. In addition, records must be kept of each emission calculation for each monthly compliance period and all data, calculations, test results, and other supporting information.

Burden Statement: In the previously approved ICR, the estimated number of respondents for this information collection was 576 with 576 responses per year. The annual industry reporting and recordkeeping burden for this collection of information was 45,672 hours. On average, each respondent reported 1.0 times per year and 79 hours were spent preparing each response. The responses were prepared semiannually. There were no capital/startup costs or operation and maintenance costs associated with continuous emission monitoring in the previous ICR.

(27) NESHAP for Asphalt Processing and Asphalt Roofing Manufacturing (40 CFR Part 63, Subpart LLLLL); EPA ICR Number 2029.03; OMB Control Number 2060-0520; expiration date May 31, 2006.

Affected Entities: Entities potentially affected by this action are asphalt processing and asphalt roofing manufacturing facilities.

Abstract: Owners and operators of affected sources are subject to the monitoring, recordkeeping and reporting requirements of 40 CFR part 63, subpart A, the General Provisions, unless specified otherwise in subpart LLLLL. This standard requires sources to submit initial notifications, conduct performance tests, and submit periodic reports. In addition, sources are required to maintain records of the occurrence and duration of any startup, shutdown, or malfunction in the operation of an affected facility; any period during which the monitoring system is inoperative; bag leak detection system alarms, including corrective actions; parametric monitoring data; system maintenance and calibration; and opacity and visible emissions observations to demonstrate initial and ongoing compliance with the standard.

Burden Statement: In the previously approved ICR, the estimated number of respondents for this information collection was 22 with 32 responses per year. The annual industry reporting and recordkeeping burden for this collection of information was 1,962 hours. On average, each respondent reported 1.5 times per year and 61 hours were spent preparing each response.

The total annualized cost was $277,689, which was comprised of no capital/startup costs and operation and maintenance costs of $277,689.

(28) NESHAP for Flexible Polyurethane Foam Fabrication (40 CFR part 63, subpart MMMMM); EPA ICR Number 2027.03; OMB Control Number 2060-0516; expiration date May 31, 2006.

Affected Entities: Entities potentially affected by this action are flexible polyurethane foam fabrication operations.

Abstract: The National Emission Standards for Hazardous Air Pollutants (NESHAP) for Flexible Polyurethane Foam Fabrication (40 CFR part 63, subpart MMMMM) were proposed on August 8, 2001, and promulgated on April 14, 2003. The affected entities are subject to the General Provision of the National Emission Standards for Hazardous Air Pollutants (NESHAP) at 40 CFR part 63, subpart A and any changes, or additions to the General Provisions specified at 40 CFR part 63, subpart MMMMM. For the purposes of this standard, flexible polyurethane foam fabrication is divided into two subcategories: (1) Loop slitter adhesive use and (2) flame lamination. For existing flame lamination facilities, there are no emission limits or monitoring, inspection, reporting, and recordkeeping (MIRR) requirements except for submission of an initial notification. Therefore, each existing flame lamination facilities submits an initial notification and does not perform any other MIRR activities. Flame lamination facilities perform all the activities necessary to comply with the emission limit and MIRR requirements for new flame lamination sources.

Burden Statement: In the previously approved ICR, the estimated number of respondents for this information collection was nine with 15 responses per year. The annual industry reporting and recordkeeping burden for this collection of information was 1,211 hours. On average, each respondent reported 1.7 times per year and 81 hours were spent preparing each response. The total annualized cost was $3,000, which was comprised of capital/startup costs of $1,000 and operation and maintenance costs of $2,000.

(29) NESHAP for Paper and Other Web Coating (40 CFR Part 63, Subpart JJJJ); EPA ICR Number 1951.03; OMB Control Number 2060-0511; expiration date May 31, 2006.

Affected Entities: Entities potentially affected by this action are paper and other web coating operations.

Abstract: The National Emission Standards for Hazardous Air Pollutants (NESHAP) for Paper and Other Web Coating (40 CFR Part 63, Subpart JJJJ) were proposed on September 13, 2000, and promulgated on December 4, 2002. The affected entities are subject to the General Provision of the National Emission Standards for Hazardous Air Pollutants (NESHAP) at 40 CFR part 61, subpart A and any changes, or additions to the General Provisions specified at 40 CFR part 63, subpart JJJJ.

This standard requires sources to submit initial notifications, conduct performance tests, and submit periodic reports. In addition, sources are required to maintain records of the occurrence and duration of any startup, shutdown, or malfunction in the operation of an affected facility; any period during which the monitoring system is inoperative and to demonstrate initial and ongoing compliance with the standard.

Burden Statement: In the previously approved ICR, the estimated number of respondents for this information collection was 441 with 1,477 responses per year. The annual industry reporting and recordkeeping burden for this collection of information was 41,462 hours. On average, each respondent reported 3.3 times per year and 28 hours were spent preparing each response. The total annualized cost was $2,928,000 which was comprised of capital/startup costs of $2,249,000 and operation and maintenance costs of $679,000.

(30) NESHAP for Coke Oven Pushing, Quenching and Battery Stacks (40 CFR Part 63, Subpart CCCCC); EPA ICR Number 1995.03; OMB Control Number 2060-0521; expiration date May 31, 2006.

Affected Entities: Entities potentially affected by this standard are coke oven batteries.

Abstract: The National Emission Standards for Hazardous Air Pollutants (NESHAP) for Coke Ovens: Pushing, Quenching, and Battery Stacks, published at 40 CFR part 63, subpart CCCCC, were proposed on July 3, 2001 (66 FR 35325), and promulgated on April 14, 2003 (68 FR 18007). Subsequently, the standard has been revised on several occasions (i.e., through corrections and direct final standard amendments) including April 22, 2003 (68 FR 19885), October 13, 2004 (69 FR 60813 and 69 FR 60837), and January 10, 2005 (70 FR 1670).

Owners and operators of affected sources are subject to the monitoring, recordkeeping and reporting requirements of 40 CFR part 63, subpart A, the General Provisions, unless as specified otherwise in 40 CFR part 63, subpart CCCCC. This standard requires the respondents to submit initial notifications, conduct performance tests, and submit periodic reports. In addition, sources are required to maintain records of the occurrence and duration of any startup, shutdown, or malfunction in the operation of an affected facility; any period during which the monitoring system is inoperative; bag leak detection system alarms, including corrective actions; parametric monitoring data; system maintenance and calibration; and opacity and visible emissions observations to demonstrate initial and ongoing compliance with the standard.

Burden Statement: In the previously approved ICR, the estimated number of respondents for this information collection was six with 30 responses per year. The annual industry reporting and recordkeeping burden for this collection of information was 2,209 hours. On average, each respondent reported 5.0 times per year and spent 74 hours preparing each response.

The total annualized cost was $83,000, which was comprised of capital/startup costs of $32,000 and operation and maintenance costs of $51,000.

(31) NESHAP for Printing, Coating and Dyeing of Fabrics and Other Textiles (40 CFR Part 63, Subpart OOOO); EPA ICR Number 2071.03; OMB Control Number 2060-0522; expiration date May 31, 2006.

Affected Entities: Entities potentially affected by this action are fabric and other textiles printing, coating and dyeing operations.

Abstract: The National Emission Standards for Hazardous Air Pollutants (NESHAP) for Printing, Coating and Dyeing of Fabrics and other Textiles (40 CFR Part 63, Subpart OOOO) were proposed on July 11, 2002, promulgated on May 29, 2003 and amended on August 4, 2004. The affected entities are subject to the General Provision of the National Emission Standards for Hazardous Air Pollutants (NESHAP) at 40 CFR part 63, subpart A and any changes, or additions to the General Provisions specified at 40 CFR part 63, subpart OOOO.

This standard requires sources to submit initial notifications, conduct performance tests, and submit periodic reports. In addition, sources are required to maintain records of the occurrence and duration of any startup, shutdown, or malfunction in the operation of an affected facility; any period during which the monitoring system is inoperative and to demonstrate initial and ongoing compliance with the standard.

Burden Statement: In the previously approved ICR, the estimated number of respondents for this information collection was 138 with 222 responses per year. The annual industry reporting and recordkeeping burden for this collection of information was 29,491 hours. On average, each respondent reported 1.6 times per year and 133 hours were spent preparing each response. The total annualized cost was $141,000 which was comprised of capital/startup costs of $136,000 and operation and maintenance costs of $5,000.

(32) NESHAP for Refractory Products Manufacturing (40 CFR Part 63, Subpart SSSSS); EPA ICR Number 2040.03; OMB Control Number 2060-0515; expiration date May 31, 2006.

Affected Entities: Entities potentially affected by this action are refractory products manufacturing facilities.

Abstract: The National Emission Standards for Hazardous Air Pollutants (NESHAP) for Refractory Products Manufacturing (40 CFR Part 63, Subpart SSSSS) were proposed on June 20, 2002, promulgated on April 16, 2003. The affected entities are subject to the General Provision of the National Emission Standards for Hazardous Air Pollutants (NESHAP) at 40 CFR part 63, subpart A and any changes, or additions to the General Provisions specified at 40 CFR part 63, subpart SSSSS. Respondents must submit one-time notifications of applicability and reports on initial performance test results. Plants must develop and implement a startup, shutdown, and malfunction plan; develop and implement an operation, maintenance, and monitoring plan; and submit semiannual reports of any event where the plans were not followed.

Burden Statement: In the previously approved ICR, the estimated number of respondents for this information collection was eight with 24 responses per year. The annual industry reporting and recordkeeping burden for this collection of information was 726 hours. On average, each respondent reported 3.0 times per year and 30 hours were spent preparing each response. The total annualized cost was $46,000 which was comprised of capital/startup costs of $45,000 and operation and maintenance costs of $1,000.

(33) NESHAP for Brick and Structural Clay Manufacturing (40 CFR Part 63, Subpart JJJJJ); EPA ICR Number 2022.03; OMB Control Number 2060-0508; expiration date May 31, 2006.

Affected Entities: Entities potentially affected by this action are brick and structural clay manufacturing facilities.

Abstract: The National Emission Standards for Hazardous Air Pollutants (NESHAP) for Brick and Structural Clay Manufacturing (40 CFR Part 63, Subpart JJJJJ) were proposed on July 22, 2002, promulgated on May 16, 2003. The affected entities are subject to the General Provision of the National Emission Standards for Hazardous Air Pollutants (NESHAP) at 40 CFR part 63, subpart A and any changes, or additions to the General Provisions specified at 40 CFR part 63, subpart JJJJJ. The standard applies to existing large tunnel kilns. The standard also applies to all new or reconstructed tunnel kilns regardless of size. However, the emission limits in the standard are different for new small and new large tunnel kilns. Small tunnel kilns have design capacities of less than 10 tons per hour of fired product, while large tunnel kilns have design capacities greater than or equal to 10 tons per hour of fired product. Respondents must submit one-time notifications of applicability and reports on initial performance test results. Plants must develop and implement a startup, shutdown, and malfunction plan and submit semiannual reports of any event where the plan was not followed. Respondents must also develop and implement an operation, maintenance, and monitoring plan covering each affected source and each emission control device used for compliance with the standard. Semiannual reports for periods of emission limitation deviations (or reports certifying that no deviations have occurred) also are required.

Burden Statement: In the previously approved ICR, the estimated number of respondents for this information collection was 77 with 74 responses per year. The annual industry reporting and recordkeeping burden for this collection of information was 17,471 hours. On average, each respondent reported 1.0 times per year and 236 hours were spent preparing each response. The total annualized cost was $120,000 which was comprised of capital/startup costs of $115,000 and operation and maintenance costs of $5,000.

(34) NESHAP for Benzene Waste Operations (40 CFR Part 61, Subpart FF); EPA ICR Number 1541.08; OMB Control Number 2060-0183; expiration date May 31, 2006.

Affected Entities: Entities potentially affected by this action are owners and operators of chemical manufacturing plants, coke by-product recovery plants, and petroleum refineries, as well as owners and operators of hazardous waste treatment, storage and disposal facilities that treat, store, or dispose of hazardous waste.

Abstract: The National Emission Standards for Hazardous Air Pollutants (NESHAP) for Benzene Waste Operations (40 CFR part 61, subpart FF) were promulgated on March 7, 1990. The affected entities are subject to the General Provisions specified at 40 CFR part 61, subpart A and any changes, or additions to the General Provisions specified at 40 CFR part 61, subpart FF.

Owners or operators of the affected facilities described must make one-time-only notifications. Owners or operators are also required to maintain records of the occurrence and duration of any startup, shutdown, or malfunction in the operation of an affected facility, or any period during which the monitoring system is inoperative. Monitoring requirements specific to Benzene Waste Operations provide information on the operation of the vapor control device and compliance with the standard. Quarterly reports of excess emissions are required.

For this standard, there is a tiered threshold for burden. Facilities managing waste containing less than 1 megagram of benzene must simply certify to that affect and maintain documentation to support their finding. Facilities managing more than 1 megagram and less than 10 megagrams of benzene-containing waste must prepare an initial certification, test annually to verify that their waste stream still falls within this range and maintain documentation to support these findings. Finally, facilities managing more than 10 megagrams of waste must submit quarterly and annual reports documenting the results of continuous monitoring.

Burden Statement: In the previously approved ICR, the estimated number of respondents for this information collection was 240 with 240 responses per year with a total burden of 16,626 hours. Each respondent report 1.0 times per year. The average recordkeeping and reporting burden for this ICR was 71 hours per response. There were no capital/startup costs or operation and maintenance costs associated with continuous emission monitoring in the previous ICR.

(35) NESHAP for the Surface Coating of Large Household and Commercial Appliances (40 CFR part 63, subpart NNNN); Leonard Lazarus of the Office of Compliance at (202) 564-6369 or via E-mail to: lazarus.leonard@epa.gov; EPA ICR Number 1954.03; OMB Control Number 2060-0457; expiration date May 31, 2006.

Affected Entities: Entities potentially affected by this action are owners and operators of large household and commercial appliance surface coating facilities.

Abstract: The National Emission Standards for Hazardous Air Pollutants (NESHAP) for the Surface Coating of Large Household and Commercial Appliances were promulgated on July 23, 2002.

The affected entities are subject to the General Provisions of the National Emission Standards for Hazardous Air Pollutants (NESHAP) at 40 CFR part 63, subpart A that apply to all NESHAP sources. These requirements include recordkeeping and reporting for startup, shutdown, malfunctions, and semiannual reporting. Exceptions to the General Provisions for this source category are delineated in the standard and include initial notifications to the Agency for new, reconstructed and existing affected entities, and notifications of compliance status.

Respondents are owners or operators of large household and commercial appliance surface coating facilities. Respondents shall submit notifications (where applicable) and reports of initial and repeat performance test results. Facilities must develop and implement a startup, shutdown, and malfunction plan and submit semiannual reports of any event where the plan was not followed. Facilities must develop and implement an operations and maintenance plan and conduct and report the results of an annual combustion system inspection. Semiannual reports for periods of operation during which the monitoring parameters are exceeded (or reports certifying that no exceedances have occurred) also are required.

General requirements applicable to all NESHAP require records of applicability determinations; test results; exceedances; periods of startups, shutdowns, or malfunctions; monitoring records; and all other information needed to determine compliance with the applicable standard.

Subpart NNNN requires respondents to maintain records of all coatings, thinners, and cleaning materials data and calculations used to determine compliance. This information includes the volume used during each monthly compliance period, mass fraction organic HAP, density, and, for coatings only, volume fraction of coating solids. If an add-on control device is used, records must be kept of the capture efficiency of the capture system, destruction or removal efficiency of the add-on control device, and the monitored operating parameters. In addition, records must be kept of each emission calculation for each monthly compliance period and all data, calculations, test results, and other supporting information.

Burden Statement: In the previously approved ICR, the estimated number of respondents for this information collection was 82 with 16 responses per year. The annual industry reporting and recordkeeping burden for this collection of information was 7,737 hours. On average, each respondent reported 0.2 times per year and 484 hours were spent preparing each response. The responses were prepared semiannually. The total annualized cost was $3,000, which was comprised of capital/startup costs of $0 and operation and maintenance costs of $3,000.

(36) State and Federal Emission Guidelines for Hospital/Medical/Infectious Waste Incinerators (40 CFR Part 60, Subpart Ce and 40 CFR Part 62, Subpart HHH), EPA ICR Number 1899.03, OMB Control Number 2060-0422, expiration date May 31, 2006.

Affected Entities: Entities potentially affected by this action are hospital/medical/infectious waste incinerators (HMIWI).

Abstract: State and Federal Emission Guidelines for Hospital/Medical/Infectious Waste Incinerators were promulgated on September 15, 1997 (40 CFR part 60, subpart Ce) and August 15, 2000 (40 CFR part 60, subpart HHH). Owners and operators of affected sources are subject to the requirements of 40 CFR part 60, subpart A, the General Provisions, or 40 CFR part 62, subpart A unless specified otherwise at 40 CFR part 60, subpart Ce or 40 CFR part 62, subpart HHH. HMIWIs for which construction was commenced on or before June 20, 1996, and burning hospital waste and/or medical infectious waste are subject to specific reporting and recording keeping requirements. Notification reports are required related to the construction, reconstruction, or modification of an HMIWI. Also required are one-time-only reports related to initial performance test data and continuous measurements of site-specific operating parameters. Annual compliance reports are required related to a variety of site-specific operating parameters, including exceedances of applicable limits. Semiannual compliance reports are required related to emission rate or operating parameter data that were not obtained when exceedances of applicable limits occurred.

Co-fired combustors and incinerators burning only pathological, low-level radioactive, and/or chemotherapeutic waste are required to submit notification reports of an exemption claim, and an estimate of the relative amounts of waste and fuels to be combusted. Co-fired combustors and incinerators are also required to maintain records on a calendar quarter basis of the weight of hospital waste combusted, the weight of medical/infectious waste combusted, and the weight of all other fuels combusted at the co-fired combustor. Incinerators burning only pathological, low-level radioactive, and/or chemotherapeutic waste are also required to maintain records of the periods of time when only pathological waste, low-level radioactive waste, and/or chemotherapeutic waste is burned.

Burden Statement: In the previously approved ICR, the estimated number of respondents for this information collection were 189 with 645 responses per year. The annual industry reporting and recordkeeping burden for this collection of information was 105,228 hours. On average, each respondent reported 3.4 times per year and 163 hours were spent preparing each response. There were no capital/startup costs associated with continuous emission monitoring in the previous ICR. However, the operation and maintenance costs associated with continuous emission monitoring in the previous ICR were estimated to be $295,407.

Dated: April 21, 2005.
Michael M. Stahl,
Director, Office of Compliance.

[FR Doc. 05-9082 Filed 5-5-05; 8:45 am]

BILLING CODE 6560-50-P